Proclamation 9031 of September 30, 2013

National Domestic Violence Awareness Month, 2013

By the President of the United States of America

A Proclamation

Since the passage of the Violence Against Women Act (VAWA) nearly 20 years ago, our Nation's response to domestic violence has greatly improved. What was too often seen as a private matter best hidden behind closed doors is now an established issue of national concern. We have changed our laws, transformed our culture, and improved support services for survivors. We have seen a significant drop in domestic violence homicides and improved training for police, prosecutors, and advocates. Yet we must do more to provide protection and justice for survivors and to prevent violence from occurring. During National Domestic Violence Awareness Month, we stand with domestic abuse survivors, celebrate our Nation's progress in combatting these despicable crimes, and resolve to carry on until domestic violence is no more.

Although we have made substantial progress in reducing domestic violence, one in four women and one in seven men in the United States still suffer serious physical violence at the hands of an intimate partner at least once during their lifetimes. Every day, three women lose their lives in this country as a result of domestic violence. Millions of Americans live in daily, silent fear within their own homes.

My Administration remains devoted to halting this devastating violence. To lead by example, last year I directed Federal agencies to develop policies to assist victims of domestic violence in the Federal workforce. Earlier this year, Vice President Biden announced new grants for initiatives that aim to reduce domestic violence homicides across our country.

This past spring, I signed the Violence Against Women Reauthorization Act. The Act provides law enforcement with better resources to investigate cases of rape, gives colleges more tools to educate students about dating violence and sexual assault, and empowers tribal courts to prosecute those who commit domestic violence on tribal lands, regardless of whether the aggressor is a member of the tribe. In addition, VAWA will continue to allow relief for immigrant victims of domestic violence, and LGBT victims will receive care and assistance.

Thanks to the landmark Affordable Care Act, insurance companies will be prohibited from denying coverage because of pre-existing conditions, and new health plans must cover domestic violence screening and counseling with no copayments or cost sharing. Millions will have the chance to sign up for affordable care through the new Health Insurance Marketplace by visiting www.HealthCare.gov beginning October 1.

Ending violence in the home is a national imperative that requires vigilance and dedication from every sector of our society. We must continue to stand alongside advocates, victim service providers, law enforcement, and our criminal justice system as they hold offenders accountable and provide care and support to survivors. But our efforts must extend beyond the criminal justice system to include housing and economic advocacy for survivors. We must work with young people to stop violence before it starts. We must also reach out to friends and loved ones who have suffered from domestic violence, and we must tell them they are not alone. I encourage victims, their loved ones, and concerned citizens to learn more by calling the National Domestic Violence Hotline at 1-800-799-SAFE, or by visiting www.TheHotline.org.

This October, let us honor National Domestic Violence Awareness Month by promoting peace in our own families, homes, and communities. Let us renew our commitment to end domestic violence—in every city, every town, and every corner of America.

NOW, THEREFORE, I, BARACK OBAMA, President of the United States of America, by virtue of the authority vested in me by the Constitution and the laws of the United States, do hereby proclaim October 2013 as National Domestic Violence Awareness Month. I call on all Americans to speak out against domestic violence and support local efforts to assist victims of these crimes in finding the help and healing they need.

IN WITNESS WHEREOF, I have hereunto set my hand this thirtieth day of September, in the year of our Lord two thousand thirteen, and of the Independence of the United States of America the two hundred and thirty-eighth.

[FR Doc. 2013-24385

Filed 10-3-13; 8:45 am]

Billing code 3295-F4